DEPARTMENT OF TRANSPORTATION

Federal Aviation Administration

Notice of Passenger Facility Charge (PFC) Approvals and Disapprovals

AGENCY: Federal Aviation Administration (FAA), DOT.

ACTION: Monthly Notice of PFC Approvals and Disapprovals. In July 2004, there were four applications approved. This notice also includes information on one application, approved in April 2004, inadvertently left off the April 2004 notice. Additionally, seven approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR Part 158). This notice is published pursuant to paragraph d of 158.29.

PFC Applications Approved

Public Agency: South Jersey Transportation Authority, Egg Harbor Township, New Jersey.

Application Number: 04-03-C-00-ACY.

Application Type: Impose and use a PFC.

PFC Level: $3.00.

Total PFC Revenue Approved in This Decision: $750,000.

Earliest Charge Effective Date: June 1, 2006.

Estimated Charge Expiration Date: November 1, 2006.

Class of Air Carriers Not Required To Collect PFC's: Non-scheduled/On demand air carriers (with less than 1,200 annual enplaned passengers) filing FAA Form 1800-31.

Determination: Approved. Based on information contained in the public agency's application, the FAA has determined that the approved class accounts for less than 1 percent of the total annual enplanements at Atlantic City International Airport.

Brief Description of Project Approved for Collection and Use: Category I instrument landing system on runway 31.

Brief Description of Project Approved for Use: Taxiway H relocation.

Decision Date: April 27, 2004.

FOR FURTHER INFORMATION CONTACT: Dan Vornea, New York Airports District Office, (516) 227-3812.

Public Agency: Spokane Airport Board, Spokane, Washington.

Application Number: 04-04-C-00-GEG.

Application Type: Impose and use a PFC.

PFC Level: $4.50.

Total PFC Revenue Approved in This Decision: $4,461,711.

Earliest Charge Effective Date: May 1, 2005.

Estimated Charge Expiration Date: May 1, 2006.

Class of Air Carriers Not Required To Collect PFC's: None.

Brief Description of Projects Approved for Collection and Use:

Snow removal equipment.

Taxiway F construction.

Security improvements.

Terminal modifications for security improvements.

Safety equipment.

Taxiway G construction.

Terminal capacity improvements.

Brief Description of Project Partially Approved for Collection and Use: Planning studies (master plan).

Determination: The public agency did not provide adequate justification for the runway 3 extension environmental assessment portion of this project. Therefore, that component was not approved.

Brief Description of Disapproved Project: Runway 3/21 extension.

Determination: The public agency did not provide adequate justification for this project.

Brief Description of Withdrawn Project: Land acquisition.

Determination: The public agency withdrew this project by letter dated April 22, 2004.

Decision Date: July 9, 2004.

FOR FURTHER INFORMATION CONTACT: Suzanne Lee-Pang, Seattle Airports District Office, (425) 227-2654.

Public Agency: City of Atlanta, Georgia.

Application Number: 04-06-C-00-ATL.

Application Type: Impose and use a PFC.

PFC Level: $4.50.

Total PFC Revenue Approved in This Decision: $18,462,000.

Earliest Charge Effective Date: June 1, 2018.

Estimated Charge Expiration Date: August 1, 2018.

Class of Air Carriers Not Required To Collect PFC's: Air taxi/commercial operators.

Determination: Approved. Based on information contained in the public agency's application, the FAA has determined that the approved class accounts for less than 1 percent of the total annual enplanements at Hartsfield Jackson International Airport.

Brief Description of Project Approved for Collection and Use:

Security screening checkpoint reconfiguration and expansion.

Security access control system.

Decision Date: July 13, 2004.

FOR FURTHER INFORMATION CONTACT: Terry R. Washington, Atlanta Airports District Office, (404) 305-7143.

Public Agency: Northwestern Regional Airport Commission, Traverse City, Michigan.

Application Number: 04-03-C-00-TVC.

Application type: Impose and use a PFC.

PFC Level: $4.50.

Total PFC Revenue Approved in This Decision: $1,190,785.

Earliest Charge Effective Date: January 1, 2018.

Estimated Charge Expiration Date: April 1, 2019.

Class of Air Carriers Not Required To Collect PFC's: Part 135 air taxi/commercial operators filing FAA Form 1800-31.

Determination: Approved. Based on information contained in the public agency's application, the FAA has determined that the approved class accounts for less than 1 percent of the total annual enplanements at Cherry Capital Airport.

Brief Description of Projects Approved for Collection and Use: New terminal building and associated projects (environmental).

New south terminal complex (predesign).

Aircraft rescue and firefighting vehicle.

Security fencing, south building area.

New airline terminal complex clearing and grubbing.

PFC preparation costs.

Audit charges.

Water main and sanitary sewer.

Natural gas utility to new terminal and proposed aircraft rescue and firefighting and snow removal buildings.

Multi-user flight information display system.

Service road and utilities.

Taxiway G, perimeter road, and airport layout plan update.

Terminal baggage and passenger screening.

South terminal landscape and irrigation.

Perimeter road.

Airport entrance drive.

Passenger loading bridges.

Terminal building (utilities)—part B.

Computer controlled access system.

New terminal furniture.

Boundary survey and exhibit A property map.

Parallel taxiway G.

Decision Date: July 13, 2004.

FOR FURTHER INFORMATION CONTACT: Jason Watt, Detroit Airports District Office, (734) 229-2906.

Public Agency: City of McAllen, Texas.

Application Number: 04-03-C-00-MFE.

Application type: Impose and use a PFC.

PFC Level: $3.00.

Total PFC Revenue Approved in This Decision: $2,075,050.

Earliest Charge Effective Date: October 1, 2004.

Estimated Charge Expiration Date: January 1, 2007.

Class of Air Carriers Not Required To Collect PFC's: On demand Part 135 air taxi/commercial operators filing FAA Form 1800-31.

Determination: Approved. Based on information contained in the public agency's application, the FAA has determined that the approved class accounts for less than 1 percent of the total annual enplanements at McAllen Miller International Airport.

Brief Description of Projects Approved for Collection and Use at a $4.50 PFC Level:

Improve south perimeter road and fencing.

Conduct environmental assessment and benefit cost analysis for runway 13/31 extension.

Brief Description of Projects Approved for Collection and Use at a $3.00 PFC Level:

Air carrier ramp joint reseal and spall repair.

Overlay taxiway C.

Rehabilitate taxiway A, general aviation, air traffic control tower, and customs aprons.

Brief Description of Withdrawn Project: Acquire land for runway 13/31 extension.

Determination: The public agency withdrew this project by letter dated July 6, 2004.

Decision Date: July 22, 2004.

FOR FURTHER INFORMATION CONTACT: G. Thomas Wade, Southwest Region Airports Division, (817) 222-5613.

Amendments to PFC Approvals

Amendment No. city, state | Amendment approved date | Original approved net PFC revenue | Amended approved net PFC revenue | Original estimated charge exp. date | Amended estimated charge exp. date
96-02-C-04-JAX, Jacksonville, FL | 06/16/04 | $19,042,209 | $20,213,839 | 06/01/99 | 08/01/99
97-03-U-02-JAX, Jacksonville, FL | 06/16/04 | NA | NA | 06/01/99 | 08/01/99
02-02-C-01-AVL, Asheville, NC | 07/12/04 | $4,977,794 | $4,936,653 | 11/01/06 | 11/01/06
01-05-C-01-VLD, Valdosta, GA | 07/14/04 | $315,826 | $260,826 | 11/01/03 | 11/01/03
01-12-C-06-ORD, Chicago, IL | 07/16/04 | $1,449,012,097 | $1,082,312,097 | 08/01/16 | 06/01/13
03-01-C-01-RDU, Raleigh-Durham, NC | 07/21/04 | $69,903,473 | $9,778,473 | 09/01/08 | 10/01/04
02-04-C-01-TOL, Toledo, OH | 07/23/04 | $3,921,997 | $3,921,997 | 11/01/06 | 11/01/06

Issued in Washington, DC, on August 18, 2004.
JoAnn Horne,
Manager, Financial Analysis and Passenger Facility Charge Branch.

[FR Doc. 04-19461 Filed 8-24-04; 8:45 am]

BILLING CODE 4910-13-M